DEPARTMENT OF HEALTH AND HUMAN SERVICES

National Institutes of Health

National Institute on Deafness and Other Communication Disorders; Amended Notice of Meeting

Notice is hereby given of a change in the meeting of the Communication Disorders Review Committee, June 20, 2001, 8 am to June 22, 2001, 5 pm, Governor's House, 1615 Rhode Island Avenue, NW., Washington, DC 20036 which was published in the Federal Register on May 2, 2001, 66 FR 21992.

The meeting has been changed to start on June 20, 2001 and end on June 21, 2001. The meeting is closed to the public.

Dated: May 17, 2001.
LaVerne Y. Stringfield,
Directror, Office of Federal Advisory Committee Policy.

[FR Doc. 01-13110 Filed 5-23-01; 8:45 am]

BILLING CODE 4140-01-M